DEPARTMENT OF ENERGY

Federal Energy Regulatory Commission

Combined Notice of Filings #1

Take notice that the Commission received the following exempt wholesale generator filings:

Docket Numbers: EG24-188-000.

Applicants: Timbermill Wind, LLC.

Description: Timbermill Wind, LLC submits Notice of Self-Certification of Exempt Wholesale Generator Status.

Filed Date: 5/24/24.

Accession Number: 20240524-5109.

Comment Date: 5 p.m. ET 6/14/24.

Docket Numbers: EG24-189-000.

Applicants: Prosperity Wind, LLC.

Description: Prosperity Wind, LLC submits Notice of Self-Certification of Exempt Wholesale Generator Status.

Filed Date: 5/24/24.

Accession Number: 20240524-5110.

Comment Date: 5 p.m. ET 6/14/24.

Take notice that the Commission received the following electric rate filings:

Docket Numbers: ER20-1298-007.

Applicants: Midcontinent Independent System Operator, Inc.

Description: Compliance filing: 2024-05-24_MISO TO's Order 864 Compliance RE NIPSCO to be effective 1/27/2020.

Filed Date: 5/24/24.

Accession Number: 20240524-5056.

Comment Date: 5 p.m. ET 6/14/24.

Docket Numbers: ER23-1851-007.

Applicants: PJM Interconnection, L.L.C.

Description: Tariff Amendment: Status Report—Amended ISA-CSA, SA Nos. 6917-6918; Queue No. AD1-031 to be effective 10/26/2023.

Filed Date: 5/24/24.

Accession Number: 20240524-5098.

Comment Date: 5 p.m. ET 6/14/24.

Docket Numbers: ER23-2359-007.

Applicants: PJM Interconnection, L.L.C.

Description: Tariff Amendment: Amendment to ISA/CSA SA Nos. 6967 & 6968; AD2-100/131—Docket ER23-2359 to be effective 9/6/2023.

Filed Date: 5/24/24.

Accession Number: 20240524-5105.

Comment Date: 5 p.m. ET 6/14/24.

Docket Numbers: ER24-1316-001.

Applicants: Duke Energy Carolinas, LLC.

Description: Tariff Amendment: DEC—Response to Deficiency Letter to be effective 5/1/2024.

Filed Date: 5/23/24.

Accession Number: 20240523-5221.

Comment Date: 5 p.m. ET 6/13/24.

Docket Numbers: ER24-2092-000.

Applicants: Public Service Company of New Hampshire.

Description: 205(d) Rate Filing: Two Party Small Generator IA Brookfield White Pine Hydro LLC to be effective 5/24/2024.

Filed Date: 5/23/24.

Accession Number: 20240523-5213.

Comment Date: 5 p.m. ET 6/13/24.

Docket Numbers: ER24-2093-000.

Applicants: PJM Interconnection, L.L.C.

Description: 205(d) Rate Filing: Designated Entity Agreement, SA No. 7236 between PJM and BGE to be effective 4/25/2024.

Filed Date: 5/24/24.

Accession Number: 20240524-5063.

Comment Date: 5 p.m. ET 6/14/24.

Docket Numbers: ER24-2094-000.

Applicants: PJM Interconnection, L.L.C.

Description: 205(d) Rate Filing: Designated Entity Agreement, SA No. 7237 between PJM and ACE to be effective 4/25/2024.

Filed Date: 5/24/24.

Accession Number: 20240524-5065.

Comment Date: 5 p.m. ET 6/14/24.

Docket Numbers: ER24-2095-000.

Applicants: Niagara Mohawk Power Corporation, New York Independent System Operator, Inc.

Description: 205(d) Rate Filing: Niagara Mohawk Power Corporation submits tariff filing per 35.13(a)(2)(iii: NMPC 205: Amended Interconnection Agreement between NMPC, Empire Power (SA333) to be effective 5/25/2024.

Filed Date: 5/24/24.

Accession Number: 20240524-5087.

Comment Date: 5 p.m. ET 6/14/24.

Docket Numbers: ER24-2096-000.

Applicants: New York Independent System Operator, Inc.

Description: 205(d) Rate Filing: NYISO 205: Modeling Improvements for Capacity Accreditation to be effective 7/24/2024.

Filed Date: 5/24/24.

Accession Number: 20240524-5102.

Comment Date: 5 p.m. ET 6/14/24.

Docket Numbers: ER24-2097-000.

Applicants: NextEra Energy Seabrook, LLC.

Description: 205(d) Rate Filing: Construction Services Agreement NEES & NECEC to be effective 5/25/2024.

Filed Date: 5/24/24.

Accession Number: 20240524-5104.

Comment Date: 5 p.m. ET 6/14/24.

Docket Numbers: ER24-2098-000.

Applicants: Pacific Gas and Electric Company.

Description: 205(d) Rate Filing: May 2024 Western WDT Service Agreement Biannual Filing (SA 17) to be effective 8/1/2024.

Filed Date: 5/24/24.

Accession Number: 20240524-5128.

Comment Date: 5 p.m. ET 6/14/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 24, 2024.
Debbie-Anne A. Reese,
Acting Secretary.

[FR Doc. 2024-12000 Filed 5-30-24; 8:45 am]

BILLING CODE 6717-01-P